Proclamation 10154 of March 1, 2021

National Consumer Protection Week, 2021

By the President of the United States of America

A Proclamation

American families are grappling with the devastating challenges of the COVID-19 pandemic and the economic crisis with courage and resilience every day. In this moment of crisis, the last thing any of us should have to contend with are predators in the consumer marketplace seeking to take advantage of us, exploit our personal data, or invade our digital privacy.

Unfortunately, the pandemic has brought a wave of fraud in its wake, with scam artists serving up fake websites and advertisements targeting desperate Americans in search of personal protective equipment. Scammers also saw the distribution of stimulus payments as fertile ground for fraud, offering vulnerable people false promises of help to get their payments more quickly. My Administration has zero tolerance for these and other criminals who take Americans' hard-earned dollars or abuse their personal information.

As Americans rely more and more on digital products—from virtual communication tools helping us stay connected through the pandemic, to apps and smart appliances that bring greater convenience to our lives—our commitment to consumer protection must keep pace with these incredible innovations. Just because we increasingly depend on technology to work, shop, go to school, and see our loved ones doesn't mean that we should sacrifice our safety or privacy.

My Administration will make it a priority to ensure that companies providing these and other services honor consumer expectations regarding their privacy and their data. We will pursue fraudulent actors aggressively, and work to raise the bar on digital security standards as new innovations are introduced. We also recognize the important role that savvy consumers play in keeping the marketplace honest. My Administration will make sure that Americans in every community have access to the educational resources they need to make informed choices online—including resources to help them protect their privacy and recognize, avoid, and report fraudulent schemes.

As millions of Americans face continued hardship from the COVID-19 pandemic, we must also prevent abuses that can result in individuals and families losing their homes. My Administration has taken decisive action to help keep people in their homes, and I encourage Americans to visit www.consumerfinance.gov/housing for up-to-date information on their relief options, protections, and key deadlines. As Federal agencies continue working to implement housing assistance for American families, the Consumer Financial Protection Bureau offers this website as a one-stop shop for both homeowners and renters to learn about programs and resources that can help them stay in their homes by reducing the risk of eviction and foreclosure.

The Federal Trade Commission and the Consumer Financial Protection Bureau, our Nation's consumer protection agencies, in coordination with law enforcement across the country, fight predatory practices and privacy violations day in and day out, with investigations, law enforcement actions, and free, actionable, plain-language consumer education resources. National Consumer Protection Week brings together public and private sector organizations that work to educate and protect the American people from marketplace threats. This week, and all year long, my Administration is dedicated to making sure that every American understands their rights and has access to information that can help protect themselves and their communities. To learn more about these resources, visit www.consumer.ftc.gov. To learn how to get involved with National Consumer Protection Week, visit www.ftc.gov/ncpw.

NOW, THEREFORE, I, JOSEPH R. BIDEN JR., President of the United States of America, by virtue of the authority vested in me by the Constitution and the laws of the United States, do hereby proclaim February 28 through March 6, 2021, as National Consumer Protection Week. I call upon government officials, industry leaders, and advocates across the Nation to share information about consumer protection and provide our citizens with information about their rights as consumers.

IN WITNESS WHEREOF, I have hereunto set my hand this first day of March, in the year of our Lord two thousand twenty-one, and of the Independence of the United States of America the two hundred and forty-fifth.

[FR Doc. 2021-04646

Filed 3-3-21; 8:45 am]

Billing code 3295-F1-P